DEPARTMENT OF HEALTH AND HUMAN SERVICES

National Institutes of Health

Center for Scientific Review; Cancellation of Meeting

Notice is hereby given of the cancellation of the Center for Scientific Review Special Emphasis Panel, July 29, 2014, 8:00 a.m. to July 29, 2014, 8:00 p.m., National Institutes of Health, 6701 Rockledge Drive, Bethesda, MD, 20892 which was published in the Federal Register on July 7, 2014, 79 FR 38323.

The meeting is cancelled due to the reassignment of applications.

Dated: August 19, 2014.
Michelle Trout,
Program Analyst, Office of Federal Advisory Committee Policy.

[FR Doc. 2014-20026 Filed 8-21-14; 8:45 am]

BILLING CODE 4140-01-P